DEPARTMENT OF HEALTH AND HUMAN SERVICES

Centers for Disease Control and Prevention

Disease, Disability, and Injury Prevention and Control Special Emphasis Panel (SEP): Portfolio Review for Child Development Studies Team

In accordance with Section 10(a)(2) of the Federal Advisory Committee Act (Pub. L. 92-463), the Centers for Disease Control and Prevention (CDC) announces the following meeting of the aforementioned SEP:

Time and Date: 8:30 a.m.—4 p.m., November 2, 2007 (Closed).

Place: 12 Executive Park Drive, Conference Room 5071, Atlanta, GA 30329, telephone 404-498-3091.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of “Portfolio Review for Child Development Studies Team.”

Contact Person for More Information: Scott Campbell, BSN, MSPH, Designated Federal Officer, Centers for Disease Control and Prevention, 1600 Clifton Road, NE., Mailstop E87, Atlanta, GA 30333, Telephone 404-498-4026.

The Director, Management Analysis and Services Office, has been delegated the authority to sign Federal Register notices pertaining to announcements of meetings and other committee management activities, for both CDC and the Agency for Toxic Substances and Disease Registry.

Elaine L. Baker,
Acting Director, Management Analysis and Services Office, Centers for Disease Control and Prevention.

[FR Doc. E7-19392 Filed 10-1-07; 8:45 am]

BILLING CODE 4163-18-P